DEPARTMENT OF ENERGY

Federal Energy Regulatory Commission

[Docket No. CP08-455-000]

CenterPoint Energy Gas Transmission Company; Notice of Request Under Blanket Authorization

August 7, 2008.

Take notice that on August 1, 2008, CenterPoint Energy Gas Transmission Company (CenterPoint), 1111 Louisiana Street, Houston, Texas, filed in Docket No. CP08-455-000 a prior notice request pursuant to sections 157.205 of the Commission's regulations under the Natural Gas Act (NGA), and CenterPoint's blanket certificate issued in Docket No. CP82-384-000 on September 1, 1982,¹ and amended in Docket No. CP82-384-001 on February 10, 1983.² CenterPoint seeks authorization to install approximately one-half mile of 16-inch pipe, a rental compressor station, and a meter station in Red River Parish, Louisiana, all as more fully set forth in the application which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

¹ 20 FERC ¶ 62,408 (1982).

² 22 FERC ¶ 61,148 (1983).

Specifically, CenterPoint proposes to install approximately 2,215 feet of 16-inch diameter steel pipe to interconnect its CP-5 line to Texas Eastern Transmission, LLC's Sligo Lateral Line 11-G, a rental 1,680 horsepower Waukesha L7044GSI compressor station, and an 8-inch ultrasonic meter station, at a cost of $10.018 million. CenterPoint has filed this application under the Commission's prior notice procedures even though the estimated cost is below the maximum allowed for an automatic authorization cost limit of $10.2 million stated in section 157.208(d) ³ of the Commission's regulations because of the recent rapid increases in material and labor costs. The proposed project will allow CenterPoint to access supplies from the Sligo Gas Processing Plant ⁴ which processes natural gas from the Sligo Field in northwest Louisiana. It will also create additional supply sources for CenterPoint's newly constructed pipeline from Carthage, TX, to the Perryville Hub in Louisiana (Line CP). The additional supply sources will allow CenterPoint to compete effectively in its geographic market and to offer its customers more transportation alternatives.

³ See 18 CFR 157.208(d) (2008).

⁴ The Sligo Gas Processing Plant is owned by CenterPoint Energy Field Services, a non-jurisdictional gathering affiliate of CenterPoint.

Any questions regarding this application should be directed to Larry Thomas, Director, Rates & Regulatory, CenterPoint Energy Gas Transmission Company, P. O. Box 21734, Shreveport, Louisiana 71151, or call (318) 429-2804.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a) (1) (iii) and the instructions on the Commission's Web site (http://www.ferc.gov) under the “e-Filing” link. Persons unable to file electronically should submit an original and 14 copies of the protest or intervention to the Federal Energy regulatory Commission, 888 First Street, NE., Washington, DC 20426.

Comment Date: October 6, 2008.

Kimberly D. Bose,
Secretary.

[FR Doc. E8-18734 Filed 8-12-08; 8:45 am]

BILLING CODE 6717-01-P